FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants:

Starlink Consolidation Service, Inc., 3780 W. Century Blvd., Inglewood, CA 90303. Officer: Michael Kuan, CEO/Secretary/CFO, Qualifying Individual).

First Choice International Travel and Cargo, 2357 S. Azusa Avenue, West Covina, CA 91792, Napoleon C. Mutuc, Sole Proprietor.

Global Alliance Logistics (NYC) Inc., One Cross Island Plaza, 133-33 Brooklyn Ave., Suite #209, Rosedale, NY 11422. Officers: Yuen W. Yeung, Secretary/Treasurer, (Qualifying Individual), Jacky Ip, President.

Convenient Freight System, Inc., 690 Knox Street, Suite 220, Torrance, CA 90502. Officers: Byoung Ho Son, Vice President, (Qualifying Individual), Bum Kyo Suh, President/CFO.

J.F. International Logistics, Inc., 5910 Pine Hill Road, Unit #6, Port Richey, FL 34668. Officers: Joseph Ferrugia, President, (Qualifying Individual), Lori Ann Ferrugia, Secretary.

Sunway Express, Inc., 7902 Lemonwood Circle, La Palma, CA 90623. Officers: Qiling Wu, CEO, (Qualifying Individua), Yi Lu, Director.

Mateo Shipping, Corp., 1441 Ogden Avenue, Bronx, NY 10452. Officers: Julio Mateo, President, (Qualifying Individual), Julian Nunez, Vice President.

Non-Vessel-Operating Common Carrier and Ocean Freight Forwarder Transportation Intermediary Applicants:

Star Freight Solutions, Inc., 21 Vermillion, Irving, CA 92603. Officer: Haiying Chen, CEO, (Qualifying Individual).

MLR Exports Inc. dba MLR Export Consolidations Inc., 11713 SW 91 Terrace, Miami, FL 33186. Officers: Michelle Pedroso, Director, (Qualifying Individual), Rossy Rodriguez, Director.

Dated: October 29, 2004.
Karen V. Gregory,
Assistant Secretary.

[FR Doc. 04-24545 Filed 11-2-04; 8:45 am]

BILLING CODE 6730-01-P